DEPARTMENT OF DEFENSE

Department of the Army

Notice of Availability for Exclusive, Non-Exclusive, or Partially-Exclusive Licensing of an Invention Concerning Plasmodium Falciparum Circumsporozoite Vaccine Gene Optimization for Soluble Protein Expression

AGENCY: Department of the Army, DoD.

ACTION: Notice.

SUMMARY: Announcement is made of the availability for licensing of the invention set forth in U.S. Patent Application Serial No. 13/880,227, entitled “Plasmodium Falciparum Circumsporozoite Vaccine Gene Optimization for Soluble Protein Expression,” filed on June 11, 2013. The United States Government, as represented by the Secretary of the Army, has rights to this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The invention relates to a method to produce vaccine grade, highly immunogenic and near full-length CSP of P. falciparum in E. coli.

Brenda S. Bowen,
Army Federal Register Liaison Officer.

[FR Doc. 2014-01441 Filed 1-24-14; 8:45 am]

BILLING CODE 3710-08-P